DEPARTMENT OF TRANSPORTATION

Federal Aviation Administration

Public Notice for Waiver of Aeronautical Land Use Assurance; Arlington Municipal Airport, Arlington, WA

AGENCY: Federal Aviation Administration, (FAA), DOT.

ACTION: Notice.

SUMMARY: Notice is being given that the FAA is considering a proposal from the City of Arlington Airport Director to change certain portions of the airport from aeronautical use to non-aeronautical use at Arlington Municipal Airport, Arlington, WA. The proposal consists of approximately 52,500 square feet on the west side of the airfield adjacent to 51st Avenue, Northeast.

DATES: Comments are due within 30 days of the date of the publication of this notice in the Federal Register. Written comments can be provided to Ms. Cayla D. Morgan, Environmental Protection Specialist, Seattle Airports District Office, 2200 216th Street, Des Moines, WA 98198.

FOR FURTHER INFORMATION CONTACT: Mr. David M. Ryan, Airport Director, City of Arlington, 18204 59th Avenue NE, Arlington, WA 98223; or Ms. Cayla D. Morgan, Environmental Protection Specialist, Seattle Airports District Office, 2200 S 216th Street, Des Moines, 98198, (206) 231-4130. Documents reflecting this FAA action may be reviewed at the above locations.

SUPPLEMENTARY INFORMATION: Under the provisions of Title 49, U.S.C. 47153(c), and 47107(h)(2), the FAA is considering a proposal from the Airport Director, City of Arlington, to change a portion of the Arlington Municipal Airport from aeronautical use to non-aeronautical use. The proposal consists of approximately 52,000 square feet on the west side of the airport adjacent to 51st Avenue, Northeast.

The property consists of two oddly shaped triangular section of land that are not large enough to support construction of an aircraft hangar or ramp. It is currently an unused parking area. The airport is proposing an Airport Observation Area for aviation educational purposes. The airport will continue to own the property so there will be no proceeds associated with this release from a land use provision. The FAA concurs that the parcels are no longer needed for aeronautical purposes. The proposed use of this property is compatible with other airport operations in accordance with FAA's Policy and Procedures Concerning the Use of Airport Revenue, published in Federal Register on February 16, 1999.

Issued in Des Moines, Washington, on April 6, 2018.
Kevin Yarnell,
Acting Manager, Seattle Airports District Office.

[FR Doc. 2018-07663 Filed 4-12-18; 8:45 am]

BILLING CODE 4910-13-P